DEPARTMENT OF COMMERCE

International Trade Administration

[C-570-971]

Multilayered Wood Flooring From the People's Republic of China: Preliminary Results and Partial Rescission of Countervailing Duty Administrative Review; 2021

AGENCY: Enforcement and Compliance, International Trade Administration, Department of Commerce.

SUMMARY: The U.S. Department of Commerce (Commerce) preliminarily determines that countervailable subsidies are being provided to producers and exporters of multilayered wood flooring (wood flooring) from the People's Republic of China (China). The period of review (POR) is January 1, 2021, through December 31, 2021. Interested parties are invited to comment on these preliminary results of review.

DATES: Applicable December 28, 2023.

FOR FURTHER INFORMATION CONTACT: Craig Matney or Jonathan Schueler, AD/CVD Operations, Office VIII, Enforcement and Compliance, International Trade Administration, U.S. Department of Commerce, 1401 Constitution Avenue NW, Washington, DC 20230; telephone: (202) 482-2429 or (202) 482-9175, respectively.

SUPPLEMENTARY INFORMATION:

Background

On December 8, 2011, Commerce issued a countervailing duty order on wood flooring from China.¹ The American Manufacturers of Multilayered Wood Flooring (the petitioner) and other interested parties requested that Commerce conduct an administrative review of the Order. On February 2, 2023, Commerce published in the Federal Register a notice of initiation of an administrative review of the Order.² We initiated an administrative review with respect to 86 producers/exporters of wood flooring from China for the POR.

¹ See Multilayered Wood Flooring from the People's Republic of China: Countervailing Duty Order, 76 FR 76693 (December 8, 2011); and Multilayered Wood Flooring from the People's Republic of China: Amended Antidumping and Countervailing Duty Orders, 77 FR 5484 (February 3, 2012), wherein the scope of the order was modified (collectively, Order).

² See Initiation of Antidumping and Countervailing Duty Administrative Reviews, 88 FR 7060 (February 2, 2023). (Initiation Notice).

For events that occurred since the Initiation Notice, see the Preliminary Decision Memorandum.³ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed at https://access.trade.gov/public/FRNoticesListLayout.aspx. A list of topics discussed in the Preliminary Decision Memorandum is included as Appendix I to this notice.

³ See Memorandum, “Decision Memorandum for the Preliminary Results in the Countervailing Duty Administrative Review of Multilayered Wood Flooring from the People's Republic of China; 2021,” dated concurrently with, and hereby adopted by, this notice (Preliminary Decision Memorandum).

Scope of the Order

The product covered by the Order is wood flooring from China. For a complete description of the scope of the Order, see the Preliminary Decision Memorandum.

Final Rescission of Review, in Part

On September 27, 2023, Commerce notified interested parties that we intended to rescind this administrative review with respect to the companies listed in Appendix II, in the absence of suspended entries during the POR.⁴ No party commented on our Intent to Rescind Memorandum. As a result, we are rescinding this review, in part, with respect to the 70 companies listed in Appendix II, pursuant to 19 CFR 351.213(d)(3) and (4).

⁴ See Memorandum, “Notice of Intent to Rescind Review, In Part,” dated September 27, 2023 (Intent to Rescind Memorandum).

In addition, the following parties submitted no-shipment certifications: Anhui Longhua Bamboo Product Co., Ltd.; Benxi Flooring Factory (General Partnership); Dalian Jiahong Wood Industry Co., Ltd.; Dalian Shengyu Science and Technology Development Co., Ltd.; Dongtai Fuan Universal Dynamics, LLC; Dunhua City Dexin Wood Industry Co., Ltd.; Dunhua Shengda Wood Industry Co., Ltd.; HaiLin LinJing Wooden Products Co., Ltd.; Jiangsu Keri Wood Co., Ltd.; Jiangsu Mingle Flooring Co., Ltd.; Jiangsu Simba Flooring Co., Ltd.; Jiashan On-Line Lumber Co., Ltd.; Kingman Wood Industry Co., Ltd.; Pinge Timber Manufacturing (Zhejiang) Co., Ltd. (Pinge Timber); Power Dekor Group Co. Ltd.; Sino-Maple (Jiangsu) Co., Ltd.; Suzhou Dongda Wood Co., Ltd.; Tongxiang Jisheng Import and Export Co., Ltd.; Zhejiang Dadongwu Green Home Wood Co., Ltd.; and Zhejiang Shiyou Timber Co., Ltd. All of these companies were included in the Intent to Rescind Memorandum with the exception of Pinge Timber.⁵ Therefore, as explained above, we are rescinding the review with regard to all these companies, except for Pinge Timber. Our analysis of the U.S. Customs and Border (CBP) information placed on the record shows that Pinge Timber made shipments of subject merchandise during the POR.⁶ Therefore, we are preliminarily treating Pinge Timber as a non-selected company under review. For further discussion on the decision not to rescind the review with respect to Pinge Timber's entry, see the Preliminary Decision Memorandum.

⁵ See Intent to Rescind Memorandum.

⁶ See Memorandum, “U.S. Customs and Border Protection (“CBP”) Entry Documents,” dated October 31, 2023.

Methodology

Commerce is conducting this review in accordance with section 751(a)(1)(A) of the Tariff Act of 1930, as amended (the Act). For each of the subsidy programs found to be countervailable, we preliminarily determine that there is a subsidy, i.e., a financial contribution by an “authority” that confers a benefit to the recipient, and that the subsidy is specific.⁷ For a full description of the methodology underlying our preliminary conclusions, including our reliance, in part, on adverse facts available pursuant to sections 776(a) and (b) of the Act, see the Preliminary Decision Memorandum.

⁷ See sections 771(5)(B) and (D) of the Act regarding financial contribution; section 771(5)(E) of the Act regarding benefit; and section 771(5A) of the Act regarding specificity.

Preliminary Rate for Non-Selected Companies Under Review

As discussed above, Commerce initiated this administrative review with respect to 86 producers/exporters. We are rescinding the review for 70 companies listed in Appendix II that had no suspended entries during the POR. As discussed above, this group includes 19 companies that certified no shipments during the POR. In addition, Commerce selected two mandatory respondents, Jiangsu Senmao Bamboo and Wood Industry Co., Ltd. (Jiangsu Senmao) and Riverside Plywood Corp. (Riverside Plywood) for individual examination.⁸ For the remaining 12 companies subject to this review, but not selected for individual examination, because the rates calculated for mandatory respondents Jiangsu Senmao and Riverside Plywood were above de minimis and not based entirely on facts available, we applied a subsidy rate based on a weighted-average of the subsidy rates calculated for these mandatory respondents using the publicly ranged sales data they submitted on the record. This methodology is consistent with our practice for establishing an all-others subsidy rate pursuant to section 705(c)(5)(A) of the Act. For further information on the calculation of the non-selected respondent rate, see the section in the Preliminary Decision Memorandum entitled “Non-Selected Companies Under Review.” For a list of the non-selected companies, see Appendix III to this notice.

⁸ Riverside Plywood's cross-owned affiliates (i.e., Baroque Timber Industries (Zhongshan) Co., Ltd.; Suzhou Times Flooring Co., Ltd.; and Zhongshan Lianjia Flooring Co., Ltd. Both Baroque Timber Industries (Zhongshan) Co., Ltd. and Suzhou Times Flooring Co., Ltd.) were listed separately in the Initiation Notice.

Preliminary Results of the Review

In accordance with 19 CFR 351.221(b)(4)(i), we calculated a countervailable subsidy rate for each of the mandatory respondents, Jiangsu Senmao and Riverside Plywood, and their cross-owned affiliates, where applicable. We preliminarily find the following countervailable subsidy rates to exist:

⁹ Cross-owned affiliates are: Baroque Timber Industries (Zhongshan) Co., Ltd.; Suzhou Times Flooring Co., Ltd.; and Zhongshan Lianjia Flooring Co., Ltd.

¹⁰ See Appendix III.

Producer/exporter | Subsidy rate (percent ad valorem)
Jiangsu Senmao Bamboo and Wood Industry Co., Ltd | 5.12
Riverside Plywood Corp. and its Cross-Owned Affiliates ⁹ | 23.65
Non-Selected Companies Under Review ¹⁰ | 17.18

Disclosure and Public Comment

We intend to disclose the calculations performed to parties within five days after the date of publication of this notice.¹¹ Pursuant to 19 CFR 351.309(c)(1)(ii), interested parties may submit case briefs to Commerce no later than 30 days after the date of the publication of this notice.¹² Rebuttal briefs, limited to issues raised in the case briefs, may be filed not later than five days after the date for filing case briefs.¹³ Interested parties who submit case briefs or rebuttal briefs in this proceeding must submit: (1) a table of contents listing each issue; and (2) a table of authorities.¹⁴

¹¹ See 19 CFR 351.224(b).

¹² See 19 CFR 351.309.

¹³ See 19 CFR 351.309(d); see also Administrative Protective Order, Service, and Other Procedures in Antidumping and Countervailing Duty Proceedings, 88 FR 67069, 67077 (September 29, 2023) (APO and Final Service Rule).

¹⁴ See 19 351.309(c)(2) and (d)(2)

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁵ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁶

¹⁵ We use the term “issue” here to describe an argument that Commerce would normally address in a comment of the Issues and Decision Memorandum.

¹⁶ See APO and Final Service Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Final Results

Unless the deadline is extended, we intend to issue the final results of this administrative review, which will include the results of our analysis of the issues raised in the case briefs, within 120 days of publication of these preliminary results in the Federal Register, pursuant to section 751(a)(3)(A) of the Act and 19 CFR 351.213(h).

Assessment Rates

In accordance with 19 CFR 351.221(b)(4)(i), we are preliminarily assigning subsidy rates in the amounts shown above for the producer/exporters subject to review. Upon completion of the administrative review, consistent with section 751(a)(1) of the Act and 19 CFR 351.212(b)(2), Commerce shall determine, and CBP shall assess, countervailing duties on all appropriate entries covered by this review.

For the companies for which this review is rescinded, Commerce will instruct CBP to assess countervailing duties on all appropriate entries at a rate equal to the cash deposit of estimated countervailing duties required at the time of entry, or withdrawal from warehouse, for consumption, during the period January 1, 2021, through December 31, 2021, in accordance with 19 CFR 351.212(c)(l)(i). Commerce intends to issue assessment instructions to CBP no earlier than 35 days after the date of publication of the preliminary results of this review in the Federal Register.

For the companies for which this review is not rescinded, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amounts shown for each of the respective companies listed above and in Appendix III on shipments of subject merchandise entered, or withdrawn from warehouse, for consumption on or after the date of publication of the final results of this administrative review. For all non-reviewed firms, we will instruct CBP to continue to collect cash deposits at the most recent company-specific or all-others rate applicable to the company. These cash deposit requirements, when imposed, shall remain in effect until further notice.

Notification to Interested Parties

These preliminary results are issued and published pursuant to sections 751(a)(1) and 777(i)(1) of the Act, and 19 CFR 351.221(b)(4).

Dated: December 20, 2023.
James Maeder,
Deputy Assistant Secretary for Antidumping and Countervailing Duty Operations.

Appendix I

List of Topics Discussed in the Preliminary Decision Memorandum

I. Summary

II. Background

III. Non-Selected Companies Under Review

IV. Scope of the Order

V. Diversification of China's Economy

VI. Use of Facts Otherwise Available and Application of Adverse Inferences

VII. Subsidies Valuation

VIII. Interest Rate Benchmarks, Discount Rates, Inputs, Land-Use Benchmarks, and Electricity Benchmarks

IX. Analysis of Programs

X. Recommendation

Appendix II

Companies with Respect to Which Commerce Is Rescinding Its Review

1. Anhui Boya Bamboo & Wood Products Co., Ltd.

2. Anhui Longhua Bamboo Product Co., Ltd.

3. Anhui Yaolong Bamboo & Wood Products Co. Ltd.

4. Armstrong Wood Products (Kunshan) Co., Ltd.

5. Benxi Flooring Factory (General Partnership)

6. Benxi Wood Company

7. Changzhou Hawd Flooring Co., Ltd.

8. Dalian Guhua Wooden Product Co., Ltd.

9. Dalian Huilong Wooden Products Co., Ltd.

10. Dalian Jaenmaken Wood Industry Co., Ltd.

11. Dalian Jiahong Wood Industry Co., Ltd.

12. Dalian Kemian Wood Industry Co., Ltd.

13. Dalian Qianqiu Wooden Product Co., Ltd.

14. Dalian Shengyu Science and Technology Development Co., Ltd.

15. Dalian T-Boom Wood Products Co., Ltd.

16. Dongtai Fuan Universal Dynamics, LLC

17. Dun Hua Sen Tai Wood Co., Ltd.

18. Dunhua City Dexin Wood Industry Co., Ltd.

19. Dunhua City Hongyuan Wood Industry Co., Ltd.

20. Dunhua City Jisen Wood Industry Co., Ltd.

21. Dunhua Shengda Wood Industry Co., Ltd.

22. Fusong Jinqiu Wooden Product Co., Ltd.

23. Guangzhou Homebon Timber Manufacturing Co., Ltd.

24. HaiLin LinJing Wooden Products Co., Ltd.

25. Hangzhou Hanje Tec Company Limited

26. Hangzhou Zhengtian Industrial Co., Ltd.

27. Hong Kong Chuanshi International

28. Hunchun Forest Wolf Wooden Industry Co., Ltd.

29. Hunchun Xingjia Wooden Flooring Inc.

30. Huzhou Chenghang Wood Co., Ltd.

31. Huzhou Sunergy World Trade Co., Ltd.

32. Jiangsu Keri Wood Co., Ltd.

33. Jiangsu Mingle Flooring Co., Ltd.

34. Jiangsu Simba Flooring Co., Ltd.

35. Jiangsu Yuhui International Trade Co., Ltd.

36. Jiashan On-Line Lumber Co., Ltd.

37. Jiaxing Hengtong Wood Co., Ltd.

38. Jilin Xinyuan Wooden Industry Co., Ltd.

39. Karly Wood Product Limited

40. Kember Flooring, Inc. (also known as Kember Hardwood Flooring, Inc.)

41. Kemian Wood Industry (Kunshan) Co., Ltd.

42. Kingman Wood Industry Co., Ltd.

43. Kornbest Enterprises Limited

44. Les Planchers Mercier, Inc.

45. Linyi Anying Wood Co., Ltd.

46. Linyi Youyou Wood Co., Ltd. (successor-in-interest to Shanghai Lizhong Wood Products Co., Ltd.) (a/k/a TheLizhong Wood Industry Limited Company of Shanghai)

47. Logwin Air and Ocean Hong Kong

48. Muchsee Wood (Chuzhou) Co., Ltd.

49. Power Dekor Group Co. Ltd.

50. Power Dekor North America Inc.

51. Samling Elegant Living Trading (Labuan) Ltd.

52. Samling Global USA, Inc.

53. Scholar Home (Shanghai) New Material Co. Ltd.

54. Shanghai Lairunde Wood

55. Shanghaifloor Timber (Shanghai) Co., Ltd.

56. Sino-Maple (Jiangsu) Co., Ltd.

57. Suzhou Dongda Wood Co., Ltd.

58. Tech Wood International Ltd.

59. Tongxiang Jisheng Import and Export Co., Ltd.

60. Xiamen Yung De Ornament Co., Ltd.

61. Xuzhou Shenghe Wood Co., Ltd.

62. Yekalon Industry, Inc.

63. Yihua Lifestyle Technology Co., Ltd. (successor-in-interest to Guangdong Yihua Timber Industry Co., Ltd.)

64. Yingyi-Nature (Kunshan) Wood Industry Co., Ltd.

65. Zhejiang Dadongwu Green Home Wood Co., Ltd.

66. Zhejiang Jiechen Wood Industry Co., Ltd.

67. Zhejiang Longsen Lumbering Co., Ltd.

68. Zhejiang Shiyou Timber Co., Ltd.

69. Zhejiang Shuimojiangnan New Material Technology Co., Ltd.

70. Zhejiang Simite Wooden Co., Ltd.

Appendix III

Non-Selected Companies Under Review

1. Dalian Penghong Floor Products Co., Ltd.

2. Dalian Shumaike Floor Manufacturing Co., Ltd.

3. Fine Furniture (Shanghai) Limited ¹⁷

¹⁷ Commerce previously found Great Wood (Tonghua) Ltd. and Fine Furniture Plantation (Shishou) Ltd. to be cross-owned with Fine Furniture (Shanghai) Limited. See Multilayered Wood Flooring from the People's Republic of China: Final Affirmative Countervailing Duty Determination,76 FR 64313 (October 18, 2011).

4. Fusong Jinlong Wooden Group Co., Ltd.

5. Fusong Qianqiu Wooden Product Co., Ltd.

6. Huzhou Fulinmen Imp. & Exp. Co., Ltd.

7. Huzhou Jesonwood Co., Ltd.

8. Jiangsu Guyu International Trading Co., Ltd.

9. Jiashan HuiJiaLe Decoration Material Co., Ltd.

10. Metropolitan Hardwood Floors, Inc.

11. Pinge Timber Manufacturing (Zhejiang) Co., Ltd.

12. Zhejiang Fuerjia Wooden Co., Ltd.

[FR Doc. 2023-28630 Filed 12-27-23; 8:45 am]

BILLING CODE 3510-DS-P